DEPARTMENT OF HOMELAND SECURITY

Coast Guard

33 CFR Part 100

[Docket No. USCG-2009-0759]

Southern California Annual Marine Events

AGENCY: Coast Guard, DHS.

ACTION: Notice of enforcement of regulation.

SUMMARY: The Coast Guard will enforce the special local regulation in 33 CFR 100.1101 for the San Diego Christmas Boat Parade of Lights on the San Diego Bay from 5:30 p.m. through 8 p.m. on December 13, 2009, and from 5:30 p.m. through 8 p.m. on December 20, 2009. This action is necessary to provide for the safety of the participants, crew, spectators, and other vessels and users of the waterway. During the enforcement period, no spectators shall anchor, block, loiter in, or impede the through transit of participants or official patrol vessels in the regulated area, unless cleared for such entry by or through an official patrol vessel.

DATES: The regulation in 33 CFR 100.1101 will be enforced from 5:30 p.m. through 8 p.m. on December 13, 2009, and from 5:30 p.m. through 8 p.m. on December 20, 2009.

FOR FURTHER INFORMATION CONTACT: If you have questions on this notice, call or e-mail Petty Officer Kristen Beer, USCG, Waterways Management, U.S. Coast Guard Sector San Diego; telephone 619-278-7262, e-mail Kristen.a.beer@uscg.mil.

SUPPLEMENTARY INFORMATION: The Coast Guard will enforce the special local regulation for the annual San Diego Christmas Boat Parade of Lights in 33 CFR 100.1101 on December 13, 2009, from 5:30 to 8 p.m. and on December 20, 2009, from 5:30 to 8 p.m.

Under the provisions of 33 CFR 100.1101, spectator vessels may safely transit outside the regulated area but may not anchor, block, loiter in, or impede the transit of ship parade participants or official patrol vessels, unless cleared for such entry by or through an official patrol vessel. When hailed and/or signaled by an official patrol vessel, a spectator shall come to an immediate stop. Vessels shall comply with all directions given. The Coast Guard may be assisted by other Federal, State, or local law enforcement agencies in enforcing this regulation.

This notice is issued under authority of 33 CFR 100.1101 and 5 U.S.C. 552 (a). In addition to this notice in the Federal Register, the Coast Guard will provide the maritime community with extensive advance notification of this enforcement period via the Local Notice to Mariners and marine information broadcasts. If the COTP or his designated representative determines that the regulated area need not be enforced for the full duration stated in this notice, he or she may use a Broadcast Notice to Mariners to grant general permission to enter the regulated area.

Dated: September 25, 2009.
T. H. Farris,
Captain, U.S. Coast Guard, Captain of the Port San Diego.

[FR Doc. E9-28719 Filed 11-30-09; 8:45 am]

BILLING CODE 9910-04-P